DEPARTMENT OF COMMERCE

Census Bureau

Annual Trade Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 25, 2001.

ADDRESSES: Direct all written comments to Madeleine Clayton, Departmental Paperwork Clearance Officer, Department of Commerce, Room 6086, 14th and Constitution Avenue, NW, Washington, DC 20230 (or via the Internet at mclayton@doc.gov).

FOR FURTHER INFORMATION CONTACT: Requests for additional information or copies of the information collection instrument(s) and instructions should be directed to: Scott A. Scheleur, Bureau of the Census, Room 2626-FOB 3, Washington, DC 20233-6500, (301) 457-2713.

SUPPLEMENTARY INFORMATION:

I. Abstract

The Annual Trade Survey (ATS) provides a sound statistical basis for the formation of policy by other government agencies. It provides continuing and timely national statistics on wholesale trade augmenting the period between economic censuses, and is a continuation of similar wholesale trade surveys conducted each year since 1978. The data that the Bureau collects with the ATS: annual sales, end-of-year inventories, and purchases are applicable to a variety of public and business needs. The Census Bureau collects these annual data from firms reporting in the Monthly Wholesale Trade Survey (MWTS) as well as an additional sample of firms selected specifically for the annual survey. The annual collection is mandatory, whereas response to the monthly is voluntary. Estimates developed in the ATS are used to benchmark the monthly sales and inventories series. The firms canvassed in this survey are not required to maintain any additional records since carefully prepared estimates are acceptable if book figures are not available.

II. Method of Collection

We will collect this information by mail, FAX and telephone follow-up.

III. Data

OMB Number: 0607-0195.

Form Number: SA-42 and SA-42A.

Type of Review: Regular Submission.

Affected Public: Wholesale Businesses.

Estimated Number of Respondents: 5,956.

Estimated Time Per Response: .3938 hrs (approx. 24 minutes).

Estimated Total Annual Burden Hours: 2,345 hours.

Estimated Total Annual Cost: The cost to the respondent is estimated to be $42,679 based on an annual response burden of 2,345 hours and a rate of $18.20 per hour to complete the form.

Respondent's Obligation: Mandatory.

Legal Authority: Title 13, United States Code, Section 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 19, 2001.
Madeleine Clayton,
Departmental Paperwork Clearance Officer, Office of the Chief Information Officer.

[FR Doc. 01-10089 Filed 4-23-01; 8:45 am]

BILLING CODE 3510-07-P